DEPARTMENT OF TRANSPORTATION

Surface Transportation Board

[Docket No. FD 35647]

BNSF Railway Company—Trackage Rights Exemption—Northern Lines Railway, Inc.

Pursuant to a written trackage rights agreement, Northern Lines Railway, Inc. (NLR), has agreed to grant restricted local trackage rights to BNSF Railway Company (BNSF) over the rail lines owned by BNSF and leased to NLR between 33rd Avenue North and milepost 5.71, located just west of the Highway I-94 overpass in St. Cloud, Minn.¹ Specifically, this includes: (a) Track 204 between 33rd Avenue North and Rice Junction, Minn.; and (b) Track 203 between milepost 0.0, at Rice Junction, and milepost 5.71, just west of the Highway I-94 overpass (the Lines).

¹ A redacted version of the trackage rights agreement between BNSF and NLR was filed with the notice of exemption. The unredacted version, as required by 49 CFR 1180.6(a)(7)(ii), was concurrently filed under seal along with a motion for protective order. The motion is being addressed in a separate decision.

The earliest this transaction may be consummated is August 24, 2012, the effective date of the exemption (30 days after the exemption was filed).

According to BNSF, the purpose of the transaction is to permit BNSF to move unit trains originating or terminating on the Lines. Use of the Lines by BNSF is restricted to movements of unit trains originating or terminating at a grain shuttle facility being constructed at approximately milepost 5.0 on the Lines. NLR will continue to serve customers along the Lines.

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Stay petitions must be filed by August 17, 2012 (at least 7 days before the exemption becomes effective).

An original and 10 copies of all pleadings, referring to Docket No. FD 35647, must be filed with the Surface Transportation Board, 395 E Street, SW., Washington, DC 20423-0001. In addition, a copy of each pleading must be served on Karl Morrell, Ball Janik LLP, 655 Fifteenth Street, NW., Suite 225, Washington, DC 20005.

Board decisions and notices are available on our Web site at www.stb.dot.gov.

Decided: August 7, 2012.
By the Board, Rachel D. Campbell, Director, Office of Proceedings.
Jeffrey Herzig,
Clearance Clerk.

[FR Doc. 2012-19644 Filed 8-9-12; 8:45 am]

BILLING CODE 4915-01-P